DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Survey of Intent and Capacity to Harvest and Process Fish and Shellfish (Northwest Region).

Form Number(s): None.

OMB Approval Number: 0648-0243.

Type of Request: Regular submission.

Burden Hours: 3.

Number of Respondents: 40.

Average Hours Per Response: 5 minutes.

Needs and Uses: A survey of domestic whiting processors and fishermen's associations in the Pacific Northwest is conducted to determine the tonnage of fish intended to be harvested, capacity to harvest allocations, and interest in harvesting fish that may be reapportioned from other segments of the fleet.

Affected Public: Business or other for-profit organizations; State, local or tribal government.

Frequency: Annually and variable.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 21, 2005.
Gwellnar Banks,
Management Analyst, Office of the Chief Information Officer.

[FR Doc. 05-8316 Filed 4-25-05; 8:45 am]

BILLING CODE 3510-22-P